DEPARTMENT OF STATE

[Public Notice 3988]

Notice of Meeting; United States International Telecommunication Advisory Committee Telecommunication Development Sector

The Department of State announces a meeting of the U.S. International Telecommunication Advisory Committee (ITAC-D). The purpose of the Committee is to advise the Department on policy, technical and operational issues with respect to the International Telecommunication Union (ITU). This meeting will address preparations for the ITU-D Study Group and Telecommunication Development Advisory Group meetings.

The ITAC-D will meet from 2:30 to 4:30 on June 18, 2002 at the Department of State Room 1406. Admittance of public members will be limited to the seating available. In this regard, entrance to the Department of State is controlled. People intending to attend the meeting should send a fax to (202) 647-7407 not later than 24 hours before the meeting. On this fax, please include the name of the meeting, your name, social security number, date of birth and organization. One of the following valid photo identifications will be required for admittance: U.S. driver's license with your picture on it, U.S. passport, or U.S. Government identification. Directions to the meeting location and on which entrance to use may be determined by calling the ITAC Secretariat at 202 647-2592 or e-mail to worsleydm@state.gov. Attendees may join in the discussions, subject to the instructions of the Chair. Admission of participants will be limited to seating available.

Dated: May 30, 2002.
Doreen McGirr,
Director, ITU-D Affairs, Department of State.

[FR Doc. 02-14991 Filed 6-12-02; 8:45 am]

BILLING CODE 4710-45-P